DEPARTMENT OF HEALTH AND HUMAN SERVICES

National Institutes of Health

Proposed Collection; 60-Day Comment Request; Evaluation of the Science Education Partnership Award (SEPA) Program, OD

SUMMARY: In compliance with the requirement of Section 3506(c)(2)(A) of the Paperwork Reduction Act of 1995, for opportunity for public comment on proposed data collection projects, the National Institutes of Health (NIH) will publish periodic summaries of proposed projects to be submitted to the Office of Management and Budget (OMB) for review and approval.

Written comments and/or suggestions from the public and affected agencies are invited to address one or more of the following points: (1) Whether the proposed collection of information is necessary for the proper performance of the function of the agency, including whether the information will have practical utility; (2) The accuracy of the agency's estimate of the burden of the proposed collection of information, including the validity of the methodology and assumptions used; (3) The quality, utility, and clarity of the information to be collected; and (4) Minimize the burden of the collection of information on those who are to respond, including the use of appropriate automated, electronic, mechanical, or other technological collection techniques or other forms of information technology.

To Submit Comments and for Further Information: To submit comments in writing, request more information on the proposed project, or to obtain a copy of the data collection plans and instruments, contact Tony Beck, Ph.D., Office of Science Education/SEPA, Office of Research Infrastructure Programs, Division of Program Coordination, Planning, and Strategic Initiatives, Office of the Director, National Institutes of Health, 6701 Democracy Boulevard, Room 206, Bethesda, MD 20892 or call non-toll-free number 301-435-0805 or email your request, including your address to: beckl@mail.nih.gov.

DATES: Comment Due Date: Comments regarding this information collection are best assured of having their full effect if received within 60 days of the date of this publication.

Proposed Collection: Evaluation of the Science Education Partnership Award (SEPA) Program, 0925-NEW, the Office of Science Education/SEPA, within the Office of the Research Infrastructure Programs (ORIP), an office of the Division of Program Coordination, Planning, and Strategic Initiatives (DPCPSI), within the Office of the Director (OD) at the National Institutes of Health (NIH).

Need and Use of Information Collection: The Science Education Partnership Award Program is a program in the Office of the Research Infrastructure Programs within the Division of Program Coordination, Planning, and Strategic Initiatives. The program provides 5-year grants for PK-12 educational projects, science centers, and museum exhibits to increase students' interest in pursuing science-related careers, deliver topical and interactive information about NIH-funded medical research, and cultivate an understanding about healthy living habits among the general public. SEPA is undertaking an evaluation to examine the extent to which SEPA grants awarded from 2004 through 2014 have met goals related to project structure, partnership formation, and evaluation quality. The evaluation will utilize archival grant project data (e.g., SEPA solicitations, project proposals, annual and final reports, and summative evaluations). The evaluation will also collect new data to (1) determine the extent to which the SEPA portfolio is aligned with the program's overall goals; (2) assess how the SEPA Program has contributed to the creation and/or enrichment of beneficial productive partnerships; and (3) determine the extent to which the SEPA Program is generating a rigorous evidence-based system that provides high-quality evaluations to inform the knowledge base. The goal of this process evaluation is to provide SEPA, program staff, the NIH, and other interested stakeholders with information about how the program is operating, the extent to which projects address the program's multiple goals, and the extent to which project-level evaluations are informing and enhancing the quality of work in the field. OMB approval is requested for one year. There are no costs to respondents other than their time. The total estimated annualized burden hours are 523.

Estimated Annualized Burden Hours
Form name | Type of respondent | Number of respondents | Number of responses per respondent | Average burden per response (in hours) | Total annual burden hours
Web survey | PI | 156 | 1 | 30/60 | 78
Telephone script to schedule interview |  | 34 | 1 | 5/60 | 3
Telephone interview |  | 34 | 1 | 60/60 | 34
Telephone script to schedule site visit |  | 34 | 1 | 5/60 | 3
Site visit interview |  | 6 | 1 | 90/60 | 9
Web survey | Project Partner | 312 | 1 | 30/60 | 156
Telephone script to schedule interview |  | 74 | 1 | 5/60 | 7
Telephone interview |  | 74 | 1 | 60/60 | 74
Telephone script to schedule site visit |  | 74 | 1 | 5/60 | 7
Site visit interview |  | 6 | 1 | 90/60 | 9
Telephone script to schedule site visit | Other Key Staff | 90 | 1 | 5/60 | 8
Site visit interview |  | 90 | 1 | 90/60 | 135

Dated: May 27, 2015.
Lawrence A. Tabak,
Deputy Director, National Institutes of Health.

[FR Doc. 2015-13458 Filed 6-2-15; 8:45 am]

BILLING CODE 4140-01-P